ENVIRONMENTAL PROTECTION AGENCY

[FRL-9917-11-Region 5]

Final Decision To Grant Warner-Lambert Company a Modification of Its Land-Ban Exemption

AGENCY: Environmental Protection Agency.

ACTION: Notice of final decision.

SUMMARY: Notice is hereby given by the U.S. Environmental Protection Agency (EPA or Agency) that modification of an exemption to the land disposal restrictions under the 1984 Hazardous and Solid Waste Amendments to the Resource Conservation and Recovery Act (RCRA) has been granted to Warner-Lambert Company (Warner-Lambert), a wholly-owned subsidiary of Pfizer, Inc., of Holland, Michigan.

DATES: This action is effective as of September 24, 2014.

FOR FURTHER INFORMATION CONTACT: Stephen Roy, Lead Petition Reviewer, EPA, Region 5, Water Division, Underground Injection Control Branch, WU-16J, Environmental Protection Agency, 77 W. Jackson Blvd., Chicago, Illinois 60604-3590; telephone number: (312) 886-6556; fax number (312) 692-2951; email address: roy.stephen@epa.gov. Copies of the petition and all pertinent information are on file and are part of the Administrative Record. It is recommended that you contact the lead reviewer prior to reviewing the Administrative Record.

SUPPLEMENTARY INFORMATION: On April 30, 1998, EPA granted Warner-Lambert (owned by Parke-Davis Division of Warner-Lambert Company at the time) an exemption from the land disposal restrictions of the 1984 Hazardous and Solid Waste Amendments (63 FR 23786, April 30, 1998). In August 2008, Warner-Lambert submitted a request to modify the exemption to include wastes bearing four additional wastes codes. EPA received additional information on this topic in 2014.

After careful review of the material submitted, EPA has determined, as required by 40 CFR 148.20(f), that there is a reasonable degree of certainty that waste streams containing constituents designated by these codes will behave hydraulically and chemically similarly to wastes for which Warner-Lambert was granted an exemption, and will not migrate from the injection zone within 10,000 years.

A public notice of the proposed decision was issued on June 30, 2014. The public comment period expired on July 31, 2014. No comments were received. Therefore, EPA is issuing the final exemption modification as proposed.

As a result of this action and the April 30, 1998 exemption, Warner-Lambert may inject wastes bearing the RCRA waste codes D023, D024, D025 and D037 into its three injection wells in Holland, Michigan. This decision constitutes a final Agency action for which there is no administrative appeal. General conditions of this exemption are found at 40 CFR Part 148. The exemption granted to Warner-Lambert on April 30, 1998 included three conditions, all of which remain unchanged and in force.

Electronic Access. You may access this Federal Register document electronically from the Government Printing Office under the “Federal Register” listings at FDSys (http://www.gpo.gov/fdsys/browse/collection.action?collectionCode=FR).

Dated: September 4, 2014.
Tinka G. Hyde,
Director, Water Division.

[FR Doc. 2014-22735 Filed 9-23-14; 8:45 am]

BILLING CODE 6560-50-P